NUCLEAR REGULATORY COMMISSION

[NRC-2013-0001]

Sunshine Act Meeting Notice

DATE: Week of December 2, 2013.

PLACE: Commissioners' Conference Room, 11555 Rockville Pike, Rockville, Maryland.

STATUS: Public and Closed.

Week of December 2, 2013

Thursday, December 5, 2013

4:00 p.m. Affirmation Session (Public Meeting) (Tentative)

a. Southern California Edison Company (San Onofre Nuclear Generating Station, Units 2 and 3), Citizens Oversight Petition for Review of LBP-12-25 (Jan. 15, 2013); Southern California Edison Company's Motion to Withdraw License Amendment Request and to Vacate LBP-12-25 and Associated Petition for Review as Moot (Aug. 8, 2013); NRC Staff's Motion to Vacate Licensing Board Order LBP-12-25 (Aug. 9, 2013) (Tentative)

b. Southern California Edison Co. (San Onofre Nuclear Generating Station, Units 2 and 3), NRC Staff's Motion to Vacate the Licensing Board's Full Initial Decision, LBP-13-7 (June 14, 2013) (Tentative)

* * * * *

* The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: November 27, 2013.
Rochelle Bavol,
Policy Coordinator, Office of the Secretary.

[FR Doc. 2013-29018 Filed 11-29-13; 4:15 pm]

BILLING CODE 7590-01-P